DEPARTMENT OF AGRICULTURE

Submission for OMB Review; Comment Request

September 29, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by November 3, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Plants for Planting; Establishing a Category for Plants for Planting Not Authorized for Importation Pending Pest Risk Analysis.

OMB Control Number: 0579-0380.

Summary Of Collection: The United States Department of Agriculture, Animal and Plant Health Inspection Service (APHIS), is responsible for preventing the entry of plant diseases or insect pests from entering into the United States, preventing the spread of pests and noxious weeds not widely distributed into the United States, and eradicating those imported pests when eradication is feasible. Under the Plant Protection Act (7 U.S.C. 7701—et seq.), the Secretary of Agriculture is authorized to take such actions as may be necessary to prevent the introduction and spread of plant pests and noxious weeds within the United States. APHIS amended the regulations to establish a new category of regulated articles in the regulations governing the importation of nursery stock, also known as plants for planting. This category will list taxa for plants for planting whose importation is not authorized pending pest risk analysis.

Need And Use of the Information: APHIS will collect the following information before a Pest Risk Assessment can be prepared: (1) a description and/or map of the specific locations(s) of the areas in the exporting country where the plant, plant parts,, or plant products are produced; (2) Scientific name (including genus, species, and author names) and taxonomic classification of arthropods, fungi, bacteria, nematodes, viruses, viroids, mollusks, phytoplasmas, spiroplasmas, etc., attacking the crop; and (3) Plant part attacked by each pest, pest life stages associated with plant part attacked, and location of pest (in, on, or with commodity).

Description of Respondents: Business or other for-profits; Federal Government.

Number of Respondents: 5.

Frequency of Responses: Reporting: On occasion.

Total Burden Hours: 28.

Ruth Brown,
Departmental Information Collection Clearance Officer.

[FR Doc. 2014-23525 Filed 10-2-14; 8:45 am]

BILLING CODE 3410-34-P